DEPARTMENT OF COMMERCE

Foreign-Trade Zones Board

[S-181-2022]

Foreign-Trade Zone 207—Richmond, Virginia; Application for Subzone; Voestalpine High Performance Metals LLC, South Boston, Virginia

An application has been submitted to the Foreign-Trade Zones (FTZ) Board by the Capital Region Airport Commission, grantee of FTZ 207, requesting subzone status for the facility of voestalpine High Performance Metals LLC (voestalpine), located in South Boston, Virginia. The application was submitted pursuant to the provisions of the Foreign-Trade Zones Act, as amended (19 U.S.C. 81a-81u), and the regulations of the FTZ Board (15 CFR part 400). It was formally docketed on September 29, 2022.

The proposed subzone (49 acres) is located at 2306 Eastover Drive, South Boston, Virginia. A notification of proposed production activity has been submitted and is being processed under 15 CFR 400.37 (Doc. B-39-2022). The proposed subzone would be subject to the existing activation limit of FTZ 207.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is November 14, 2022. Rebuttal comments in response to material submitted during the foregoing period may be submitted during the subsequent 15-day period to November 29, 2022.

A copy of the application will be available for public inspection in the “Online FTZ Information Section” section of the FTZ Board's website, which is accessible via www.trade.gov/ftz.

For further information, contact Christopher Kemp at Christopher.Kemp@trade.gov.

Dated: September 29, 2022.
Elizabeth Whiteman,
Acting Executive Secretary.

[FR Doc. 2022-21544 Filed 10-4-22; 8:45 am]

BILLING CODE 3510-DS-P